DEPARTMENT OF LABOR

Employment and Training Administration

[TA-W-60,705]

Syngenta Crop Protection; Pasadena, TX; Notice of Termination of Investigation

Pursuant to Section 221 of the Trade Act of 1974, as amended, an investigation was initiated on January 4, 2007 in response to a petition filed on behalf of workers at Syngenta Crop Protection, Pasadena, Texas (TA-W-60,705).

The petition was filed by three workers without three signatures. Without three signatures, the petition has been deemed invalid. Consequently, further investigation in this case would serve no purpose, and the investigation has been terminated.

Signed at Washington, DC this 5th day of January, 2007.
Linda G. Poole,
Certifying Officer, Division of Trade Adjustment Assistance.

[FR Doc. E7-465 Filed 1-12-07; 8:45 am]

BILLING CODE 4510-30-P